DEPARTMENT OF HEALTH AND HUMAN SERVICES

Food and Drug Administration

[FDA 225-05-3000]

Memorandum of Understanding Between the Food and Drug Administration and the Veterans Health Administration

AGENCY: Food and Drug Administration, HHS.

ACTION: Notice.

SUMMARY: The Food and Drug Administration (FDA) is providing notice of a memorandum of understanding (MOU) between FDA and the Veterans Health Administration (VHA). The purpose of this MOU is to extend an existing formal collaboration between FDA and VHA for the purpose of developing and implementing terminology standards for medication information.

DATES: The agreement became effective June 28, 2005.

FOR FURTHER INFORMATION CONTACT: Randy Levin, Health and Regulatory Data Standards (HFD-001), Food and Drug Administration, 5600 Fishers Lane, Rockville, MD 20857, 301-594-5411.

SUPPLEMENTARY INFORMATION: In accordance with 21 CFR 20.108(c), which states that all written agreements and MOUs between FDA and others shall be published in the Federal Register, the agency is publishing notice of this MOU.

Dated: September 8, 2005.
Jeffrey Shuren,
Assistant Commissioner for Policy.

BILLING CODE 4160-01-S

[FR Doc. 05-18513 Filed 9-16-05; 8:45 am]

BILLING CODE 4160-01-C